DEPARTMENT OF TRANSPORTATION

Federal Aviation Administration

14 CFR Part 39

[Docket No. 2002-NM-113-AD; Amendment 39-13499; AD 2004-05-05]

RIN 2120-AA64

Airworthiness Directives; Airbus Model A300 B2-1C, B2-203, B2K-3C, B4-2C, B4-103, and B4-203 Series Airplanes; Model A300 B4-600, B4-600R, and F4-600R (Collectively Called A300-600) Series Airplanes; and Model A310 Series Airplanes

AGENCY: Federal Aviation Administration, DOT.

ACTION: Final rule.

SUMMARY: This amendment supersedes an existing airworthiness directive (AD), applicable to all Airbus Model A300 B2-1C, B2-203, B2K-3C, B4-2C, B4-103, and B4-203 series airplanes, that currently requires a one-time inspection of the space between the fuel quantity indication (FQI) probes and any adjacent structures for minimum clearance, and corrective action if necessary. This amendment expands the applicability in the existing AD and requires the subject one-time inspection on additional airplanes. The actions specified by this AD are intended to prevent the possibility of electrical arcing to the fuel tank if the airplane should be struck by lightning. Such arcing could create a potential ignition source within the fuel tank and an increased risk of a fuel tank explosion and fire. This action is intended to address the identified unsafe condition.

DATES: Effective April 9, 2004.

The incorporation by reference of certain publications, as listed in the regulations, is approved by the Director of the Federal Register as of April 9, 2004.

The incorporation by reference of a certain other publication, as listed in the regulations, was approved previously by the Director of the Federal Register as of August 1, 2001 (66 FR 34088, June 27, 2001).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2001-13-09, amendment 39-12289 (66 FR 34088, June 27, 2001), which is applicable to all Airbus Model A300 B2-1C, B2-203, B2K-3C, B4-2C, B4-103, and B4-203 series airplanes, was published in the Federal Register on October 2, 2003 (68 FR 56799). The action proposed to require a one-time inspection of the space between the fuel quantity indication (FQI) probes and any adjacent structures for minimum clearance, and corrective action if necessary.

Comments

Interested persons have been afforded an opportunity to participate in the making of this amendment. Due consideration has been given to the comments received.

Request for an Alternative Method of Compliance (AMOC)

One commenter states that in 1999 it began replacing the factory-installed fuel quantity indicating system (FQIS) on its A300-600 series airplanes with a Goodrich system, certified by Supplemental Type Certificate (STC) 00092BO. In addition, the commenter states that, as of January 2001, all its airplanes were modified per the Goodrich STC, which, due to increased clearance by an improved design, provides a greater level of safety than the factory-installed system. The commenter asks that the FQIS that is installed per the Goodrich STC be included as a second method of compliance, or that the proposed AD be revised to include credit for the airplanes already modified.

The FAA cannot agree to other methods of compliance since no supporting data that such installation would provide an acceptable level of safety were provided to us to substantiate the commenter's request. For airplanes that have been previously modified, altered, or repaired in the areas addressed by these inspections, the operator may not need or be able to accomplish the requirements of the proposed AD. In this situation, to comply with 14 CFR 91.403(c), the operator must request approval for an alternative method of compliance in accordance with paragraph (d)(1) of this AD. The request should include a description of changes to the design that will ensure the continued airworthiness of the affected airplanes in lieu of the required inspections. No change to the final rule is necessary in this regard.

A second commenter states that it is the STC holder for the FQI probes that replace the fuel height probes developed by the original equipment manufacturer. The probes are replaced with a Goodrich-designed FQI probe installed per STC 00092BO. The commenter states that the STC has been implemented by Goodrich customers and they are requesting assistance to obtain compliance with the requirements of the proposed AD. The commenter proposes to develop a service bulletin to perform a one-time inspection of the STC installation. The commenter would provide substantiating data to the FAA for review and approval after the service bulletin is developed. The commenter asks that the service bulletin be approved as an AMOC to the proposed AD. Records substantiating the inspections and corrective actions would be provided to the FAA by operators. The commenter adds that this approach was previously implemented by Goodrich for STC ST00020BO and the related AD. The commenter suggests that we review the suggested compliance option for the STC and provide a recommendation for the preferred approach for implementation. The commenter adds that, depending on the schedule for release of the proposed AD, it can prepare and provide the STC service bulletin for incorporation into the proposed AD. The commenter asks that we inform them if this approach is viable, and include the lead time required by our office for such incorporation.

We cannot approve the use of a document that does not yet exist, and in consideration of the urgency of the identified unsafe condition and the amount of time that has already elapsed since the proposed AD was issued, we have determined that further delay of this final rule is not appropriate. However, if a new service bulletin is developed in the future, the commenter may request approval to use it as an alternative method of compliance under the provisions of paragraph (d)(1) of this final rule.

Conclusion

After careful review of the available data, including the comments noted above, we have determined that air safety and the public interest require the adoption of the rule as proposed.

Cost Impact

There are approximately 115 airplanes of U.S. registry that will be affected by this AD.

The inspection that is currently required by AD 2001-13-09 takes about 7 work hours per airplane to accomplish, at an average labor rate of $65 per work hour. Based on these figures, the cost impact of the currently required inspection is estimated to be $455 per airplane.

It will take about 5 work hours per airplane to accomplish the new inspection, specified in Airbus Service Bulletin A310-28-2145, at an average labor rate of $65 per work hour. Based on these figures, the cost impact of this inspection is estimated to be $325 per airplane.

It will take about 10 work hours per airplane to accomplish the new inspection of the wing fuel tank, and about 5 work hours per airplane to accomplish the new inspection of the trim fuel tank, specified in Airbus Service Bulletin A300-28-6065, at an average labor rate of $65 per work hour. Based on these figures, the cost impact of these inspections is estimated to be $650 per wing fuel tank, and $325 per trim fuel tank, per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12289 (66 FR 34088, June 27, 2001), and by adding a new airworthiness directive (AD), amendment 39-13499, to read as follows:

2004-05-05 Airbus: Amendment 39-13499. Docket 2002-NM-113-AD. Supersedes AD 2001-13-09, Amendment 39-12289.

Applicability: All Model A300 B2-1C, B2-203, B2K-3C, B4-2C, B4-103, and B4-203 series airplanes; Model A300 B4-600, B4-600R, and F4-600R (collectively called A300-600) series airplanes, except those on which Airbus Modification 12278 has been accomplished in production; and Model A310 series airplanes, except those on which Airbus Modification 12248 has been accomplished in production; certificated in any category.

Compliance: Required as indicated, unless accomplished previously.

To prevent the possibility of electrical arcing to the fuel tank if the airplane should be struck by lightning, which could create a potential ignition source within the fuel tank and an increased risk of a fuel tank explosion and fire, accomplish the following:

Restatement of Requirements of AD 2001-13-09

Inspection

(a) For Model A300 B2-1C, B2-203, B2K-3C, and A300 B4 series airplanes: Within 4,000 flight hours after August 1, 2001 (the effective date of AD 2001-13-09, amendment 39-12289), inspect the clearance space from each fuel quantity indication (FQI) probe to any adjacent structure or metallic component, in accordance with Airbus Service Bulletin A300-28-0080, dated September 28, 2000; or Revision 01, dated September 3, 2001.

New Requirements of This AD

Detailed Inspection

(b) For Model A300-600 and A310 series airplanes: Within 4,000 flight hours after the effective date of this AD; do a detailed inspection of the clearance space from each FQI probe to any adjacent structure or metallic component, in accordance with Airbus Service Bulletin A300-28-6065, dated March 29, 2001, or Revision 01, dated August 31, 2001, or Revision 02, dated August 1, 2002; or Airbus Service Bulletin A310-28-2145, dated August 21, 2001; as applicable.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Clearance Adjustment

(c) If, during any inspection required by this AD, the clearance between any probe and its adjacent parts is less than 3.0 mm (0.118 in.), as described in Airbus Service Bulletin A300-28-0080, dated September 28, 2000, or Revision 01, dated September 3, 2001, or Airbus Service Bulletin A300-28-6065, dated March 29, 2001, or Revision 01, dated August 31, 2001, or Revision 02, dated August 1, 2002; or Airbus Service Bulletin A310-28-2145, dated August 21, 2001: Before further flight, adjust the position of the FQI probe in accordance with paragraph 3.C. of the Accomplishment Instructions of the applicable service bulletin.

Alternative Methods of Compliance

(d)(1) In accordance with 14 CFR 39.19, the Manager, International Branch, ANM-116, FAA, is authorized to approve alternative methods of compliance for this AD.

(2) Alternative methods of compliance, approved previously per AD 2001-13-09, amendment 39-12289, are approved as alternative methods of compliance with paragraph (a) of this AD.

Incorporation by Reference

(e) The actions shall be done in accordance with Airbus Service Bulletin A300-28-0080, dated September 28, 2000; Airbus Service Bulletin A300-28-0080, Revision 01, dated September 3, 2001; Airbus Service Bulletin A300-28-6065, dated March 29, 2001; Airbus Service Bulletin A300-28-6065, Revision 01, dated August 31, 2001; Airbus Service Bulletin A300-28-6065, Revision 02, dated August 1, 2002; and Airbus Service Bulletin A310-28-2145, dated August 21, 2001; as applicable.

(1) The incorporation by reference of Airbus Service Bulletin A300-28-0080, Revision 01, dated September 3, 2001; Airbus Service Bulletin A300-28-6065, dated March 29, 2001; Airbus Service Bulletin A300-28-6065, Revision 01, dated August 31, 2001; Airbus Service Bulletin A300-28-6065, Revision 02, dated August 1, 2002; and Airbus Service Bulletin A310-28-2145, dated August 21, 2001; is approved by the Director of the Federal Register in accordance with 5 U.S.C. 552(a) and 1 CFR part 51.

(2) The incorporation by reference of Airbus Service Bulletin A300-28-0080, dated September 28, 2000; was approved previously by the Director of the Federal Register as of August 1, 2001 (66 FR 34088, June 27, 2001).

(3) Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 2: The subject of this AD is addressed in French airworthiness directive 2002-170(B), dated April 3, 2002.

Effective Date

(f) This amendment becomes effective on April 9, 2004.

Issued in Renton, Washington, on February 20, 2004.
Kalene C. Yanamura,
Acting Manager, Transport Airplane Directorate, Aircraft Certification Service.

[FR Doc. 04-4565 Filed 3-4-04; 8:45 am]

BILLING CODE 4910-13-P